DEPARTMENT OF HOMELAND SECURITY

Coast Guard

[Docket No. USCG-2007-28839]

National Boating Safety Advisory Council; Vacancy

AGENCY: Coast Guard, DHS.

ACTION: Request for applications.

SUMMARY: The Coast Guard seeks applications for membership on the National Boating Safety Advisory Council (NBSAC). NBSAC advises the Coast Guard on matters related to recreational boating safety.

DATES: Application forms should reach us on or before September 7, 2007.

ADDRESSES: You may request an application form by writing to Commandant, Office of Boating Safety (CG-3PCB-1), U.S. Coast Guard, 2100 Second Street, SW., Washington, DC 20593-0001; by calling 202-372-1062; or by faxing 202-372-1932. Send your application in written form to the above street address. This notice and the application form are available on the Internet at: http://www.uscgboating.org/nbsac/nbsac.htm.

FOR FURTHER INFORMATION CONTACT: Mr. Jeff Ludwig, Executive Secretary of NBSAC, telephone 202-372-1062, fax 202-372-1932, or e-mail: jeffrey.a.ludwig@uscg.mil.

SUPPLEMENTARY INFORMATION: The National Boating Safety Advisory Council (NBSAC) is a Federal advisory committee under 5 U.S.C. App. (Pub. L. 92-463). It advises the Coast Guard regarding regulations and other major boating safety matters. NBSAC's 21 members are drawn equally from the following three sectors of the boating community: State officials responsible for State boating safety programs, recreational boat and associated equipment manufacturers, and national recreational boating organizations and the general public. Members are appointed by the Secretary of the Department of Homeland Security.

NBSAC normally meets twice each year at a location selected by the Coast Guard. When attending meetings of the Council, members are provided travel expenses and per diem.

We will consider applications received in response to this notice for the following position which was vacated on June 26, 2007: One representative of recreational boat and associated equipment manufacturers. The appointee for this position will serve the remainder of the previous member's term, which expires December 31, 2008.

Applicants are considered for membership on the basis of their particular expertise, knowledge, and experience in recreational boating safety. Applicants from previous years should submit an updated application to ensure consideration for the vacancy announced in this notice. Applicants for the vacancy notice published on April 26, 2007 in 72 FR 20862 do not need to submit any additional application materials. Members may serve consecutive terms. In support of the policy of the U.S. Coast Guard on gender and ethnic diversity, we encourage qualified women and members of minority groups to apply.

Dated: August 1, 2007.
F.J. Sturm,
Captain, U.S. Coast Guard, Director of Inspections and Compliance (Acting).

[FR Doc. E7-15505 Filed 8-8-07; 8:45 am]

BILLING CODE 4910-15-P